SECURITIES AND EXCHANGE COMMISSION

[Release No. 34-57509; File No. SR-CHX-2007-09]

Self-Regulatory Organizations; Chicago Stock Exchange, Inc.; Order Granting Approval to a Proposed Rule Change To Amend the Exchange's Institutional Broker Rules To Add Provisions Relating to the Handling of Stop and Stop-Limit Orders

March 17, 2008.

On March 21, 2007, the Chicago Stock Exchange, Inc. (“CHX” or “Exchange”) filed with the Securities and Exchange Commission (“Commission”), pursuant to Section 19(b)(1) of the Securities Exchange Act of 1934 (“Act”),¹ and Rule 19b-4 thereunder,² a proposed rule change to amend its rules to add new provisions relating to the handling of stop and stop-limit orders by institutional brokers. The proposed rule change was published for comment in the Federal Register on October 19, 2007.³ The Commission received no comment letters on the proposal. This order approves the proposed rule change.

¹ 15 U.S.C. 78s(b)(1).

² 17 CFR 240.19b-4.

³ See Securities Exchange Act Release No. 56657 (October 12, 2007), 72 FR 59316.

After careful review of the proposal, the Commission finds that the proposed rule change is consistent with the requirements of the Act and the rules and regulations thereunder applicable to a national securities exchange, and, in particular, is consistent with Section 6(b) of the Act,⁴ and the rules and regulations thereunder.⁵

⁴ 15 U.S.C. 78f(b).

⁵ In approving this proposed rule change, the Commission has considered the proposed rule's impact on efficiency, competition, and capital formation. See 15 U.S.C. 78c(f).

The Commission finds specifically that the proposal is consistent with Section 6(b)(5) of the Act ⁶ because the rules it would establish regarding stop and stop-limit orders are similar to requirements set forth in the rules of other self-regulatory organizations.⁷

⁶ 15 U.S.C. 78f(b)(5).

⁷ See Rules of New York Stock Exchange LLC, Rule 13; and Rules of Financial Industry Regulatory Authority, Inc. (f/k/a National Association of Securities Dealers, Inc.), Rule 5120(h).

It is therefore ordered, pursuant to Section 19(b)(2) of the Act,⁸ that the proposed rule change (SR-CHX-2007-09), be, and hereby is, approved.

⁸ 15 U.S.C. 78s(b)(2).

For the Commission, by the Division of Trading and Markets, pursuant to delegated authority.⁹
⁹ 17 CFR 200.30-3(a)(12).
Florence E. Harmon,
Deputy Secretary.

[FR Doc. E8-5794 Filed 3-21-08; 8:45 am]

BILLING CODE 8011-01-P